FEDERAL EMERGENCY MANAGEMENT AGENCY

44 CFR Part 65

[Docket No. FEMA-D-7527]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Administrator reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR part 10, Environmental Consideration. No environmental impact assessment has been prepared.

Regulatory Flexibility Act

The Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Lee | City of Auburn | August 1, 2002, August 8, 2002, Opelika-Auburn News | The Honorable Bill Ham, Jr., Mayor of the City of Auburn, 144 Tichenor Avenue, Auburn, Alabama 36830 | May 20, 2002 | 010144 E
Connecticut: Fairfield | City of Danbury | June 6, 2002, June 13, 2002 The News-Times | The Honorable Mark D. Boughton, Mayor of the City of Danbury, 155 Deer Hill Avenue, Danbury, Connecticut 06810 | September 12, 2002 | 090004 B
Florida: Broward | City of Parkland | July 8, 2002, July 15, 2002, Sun-Sentinel | The Honorable Sal Pagliara, Mayor of the City of Parkland, 6600 University Drive, Parkland, Florida 33067 | July 1, 2002 | 120051 F
Florida: Broward | Unincorporated Areas | July 8, 2002, July 15, 2002, Sun-Sentinel | Mr. Roger J. Desjarlais, Broward County Administrator, 115 South Andrews Avenue, Room 409, Fort Lauderdale, Florida 33301 | July 1, 2002 | 125093 F
Florida: Clay | Unincorporated Areas | July 24, 2002, July 31, 2002, The Florida Times-Union | Mr. Robert M. Wilson, Clay County Manager, P.O. Box 1366, Green Cove Springs, Florida 32043 | July 17, 2002 | 120064 D
Florida: Lee | Unincorporated Areas | June 28, 2002, July 5, 2002, News-Press | Mr. Robert Janes, Chairman of the Lee County, Board of Commissioners, P.O. Box 398, Fort Myers, Florida 33902-0398 | June 21, 2002 | 125124 D&E
Florida: Polk | City of Lakeland | April 3, 2002, April 10, 2002, The Ledger | Mr. Roger D. Haar, City Manager for the City of Lakeland, Lakeland City Hall, 228 South Massachusetts Avenue, Lakeland, Florida 33801-5086 | March 27, 2002 | 120267 F
Florida: Polk | Unincorporated Areas | August 1, 2002, August 8, 2002, The Ledger | Mr. Jim W. Keene, Polk County Manager, 330 West Church Street, P.O. Box 9005, Drawer CA01, Bartow, Florida 33831-9005 | May 14, 2002 | 120261 F
Illinois: LaSalle | City of Ottawa | July 3, 2002, July 10, 2002, The Daily Times | The Honorable Robert Eschbach, Mayor of the City of Ottawa, City Hall, 301 West Madison Street, Ottawa, Illinois 61350 | July 25, 2002 | 170405 E
Kentucky: Daviess | City of Owensboro | August 5, 2002, August 12, 2002, Messenger-Inquirer | The Honorable Waymond O. Morris, Mayor of the City of Owensboro, P.O. Box 1003, Owensboro, Kentucky 42303-9003 | November 11, 2002 | 210063 C
Maine: Penobscot | City of Brewer | June 4, 2002, June 11, 2002, Bangor Daily News | The Honorable Michael Celli, Mayor of the City of Brewer, City Hall, 80 North Main Street, Brewer, Maine 04412 | September 10, 2002 | 230104 B
Maryland: Frederick | Unincorporated Areas | July 22, 2002, July 29, 2002, Frederick News Post | Mr. Ron Hart, Frederick County Manager, 12 East Church Street, Frederick, Maryland 21701 |  | 240027 A
Michigan: Oakland | City of Novi | July 4, 2002, July 11, 2002, Novi News | The Honorable Richard Clark, Mayor of the City of Novi, Civic Center, 45175 West Ten Mile Road, Novi, Michigan 48375-3024 | June 25, 200 | 260175 C
Michigan: Macomb | City of Sterling Heights | June 9, 2002, June 16, 2002, The Source | The Honorable Richard J. Notte, Mayor of the City of Sterling Heights, P.O. Box 8009, 40555 Utica Road, Sterling Heights, Michigan 48311-8009 | July 3, 2002 | 260128 E
Mississippi: Lafayette | City of Oxford | May 22, 2002, May 29, 2002, Oxford Eagle | The Honorable Richard Howorth, Mayor of the City of Oxford, City Hall, 107 Courthouse Square, Oxford, Mississippi 38655 | August 21, 2002 | 280094 B
New York: Steuben | Town of Campbell | June 28, 2002, July 5, 2002, The Leader | Mr. Thomas O. Bosket, Supervisor of the Town of Campbell, 8529 Main Street, Campbell, New York 14821 | December 20, 2002 | 360768 C
Ohio: Franklin | Unincorporated Areas | June 5, 2002, June 12, 2002, Daily Reporter | Ms. Arline Shoemaker, President, Franklin County Board of Commissioners, 373 South High Street, 26th Floor, Columbus, Ohio 43215 | September 11, 2002 | 390167 G
Ohio: Franklin | Village of Urbancrest | June 5, 2002, June 12, 2002, Grove City Record | The Honorable Marlin R. West, Mayor of the Village of Urbancrest, 3357 Central Avenue, Urbancrest, Ohio 43123 | September 11, 2002 | 390893 G
Pennsylvania: Allegheny | City of Pittsburgh | July 9, 2002, July 16, 2002, Pittsburgh Post Gazette | The Honorable Thomas Murphy, Mayor of the City of Pittsburgh, 5th Floor, City-County Building, 414 Grant Street, Pittsburgh, Pennsylvania 15219 | October 15, 2002 | 4200063
Pennsylvania: Bucks | Borough of Richland | August 14, 2002, August 21, 2002, The Intelligencer | Mr. Steven Tamburri, Chairman of the Township of Richland, Board of Supervisors, Suite A, 1328 California Road, Quakertown, Pennsylvania 18951 | November 20, 2002 | 421095 F
Rhode Island: Washington | Town of Westerly | June 19, 2002, June 26, 2002, The Westerly Sun | Mr. Samuel Azzinaro, Westerly Town Council President, Westerly Town Hall, 45 Broad Street, Westerly, Rhode Island 02891 | June 12, 2002 | 445410 E
Tennessee: Fayette | Unincorporated Areas | May 22, 2002, May 29, 2002, The Fayette Falcon | The Honorable Jim Voss, Mayor of Fayette County, P.O. Box 218, Somerville, Tennessee 38068 | August 28, 2002 | 470352 B
Tennessee: Sumner and Davison | City of Goodlettsville | August 5, 2002, August 12, 2002, The Tennessean | The Honorable Bobby T. Jones, Mayor of the City of Goodlettsville, 105 South Main Street, Goodlettsville, Tennessee 37072 | November 22, 2002 | 470287 F
Virginia: Loudoun | Unincorporated Areas | June 12, 2002, June 19, 2002, Loudoun Times Mirror | Mr. Kirby Bowers, Loudoun County Administrator, 1 Harrison Street, S.E., 5th Floor, P.O. Box 7000, Leesburg, Virginia 20177-7000 | June 3, 2002 | 510090 D
Virginia: Henrico | Unincorporated Areas | July 19, 2002, July 26, 2002, The Richmond Times | Mr. James B. Donati, Jr., Chairman of the Henrico County, Board of Supervisors, P.O. Box 27032, Richmond, Virginia 23273 | October 25, 2002 | 510077 B
Virginia: Prince William | Town of Dumfries | August 9, 2002, August 16, 2002, Potomac News | The Honorable Melvin Bray, Mayor of the Town of Dumfries, P.O. Box 56, Dumfries, Virginia 22026 | July 31, 2002 | 510120 D
Virginia: Fauquier | Town of Warrenton | August 15, 2002, August 22, 2002, Fauquier Citizen | Mr. Kenneth L. McLawhon, Warrenton Town Manager, 18 Court Street, Warrenton, Virginia 20186 | July 16, 2002 | 510057 B

(Catalog of Federal Domestic Assistance No. 83.100, “Flood Insurance.”)

Dated: August 30, 2002.
Anthony S. Lowe,
Administrator, Federal Insurance and Mitigation Administration.

[FR Doc. 02-22823 Filed 9-6-02; 8:45 am]

BILLING CODE 6718-04-P